NATIONAL SCIENCE FOUNDATION

Special Emphasis Panel in Human Resource Development; Notice of Meeting

In accordance with the Federal Advisory Committee Act (Pub. L. 92-463, as amended), the National Science Foundation announces the following meeting:

Name: Special Emphasis Panel in Human Resource Development (1199).

Date and Time: April 28, 2000, 8 a.m.-3:30 p.m.

Place: Room 330, National Science Foundation, 4201 Wilson Boulevard, Arlington, VA 22230.

Type of Meeting: Closed.

Contact Person: Dr. Victor A. Santiago, Program Director, Human Rsource Development Division, Room 815, National Science Foundation, 4201 Wilson Boulevard, Arlington, VA 22230. (703) 206-1633.

Purpose: To provide advice and recommendations concerning proposals submitted to NSF for financial support.

Agenda: Review for the HBCU-UP Reverse Site Visit.

Reason for Closing: The proposals being reviewed include information of proprietary or confidential nature, including technical information, financial data such as salaries, and personal information concerning individuals associated with the proposals. These matters that are exempt under 5 U.S.C. 522b(c), (4) and (6) of the Government in the Sunshine Act.

Dated: April 13, 2000.
Karen J. York,
Committee Management Officer.

[FR Doc. 00-10119 Filed 4-21-00; 8:45 am]

BILLING CODE 7555-01-M